ENVIRONMENTAL PROTECTION AGENCY

[EPA-HQ-OAR-2003-0052; FRL-8761-9]

Agency Information Collection Activities; Submission to OMB for Review and Approval; Comment Request; Risk Management Program Requirements and Petitions To Modify the List of Regulated Substances Under Section 112(r) of the Clean Air Act (CAA) (Renewal); EPA ICR No. 1656.13; OMB Control No. 2050-0144

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 12, 2009.

ADDRESSES: Submit your comments, referencing Docket ID No. EPA-HQ-OAR-2003-0052, to (1) EPA online using http://www.regulations.gov (our preferred method), by e-mail to a-and-r-Docket@epa.gov or by mail to: EPA Docket Center, Environmental Protection Agency, Air & Radiation Docket, Mail Code: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Sicy Jacob, Office of Emergency Management, Environmental Protection Agency, 1200 Pennsylvania Ave., NW., Washington, DC 20460; telephone number: (202) 564-8019; fax number: (202) 564-2620; e-mail address: jacob.sicy@epa,gov.

SUPPLEMENTARY INFORMATION: EPA has submitted the following ICR to OMB for review and approval according to the procedures prescribed in 5 CFR 1320.12. On August 14, 2008 (73 FR 47594), EPA sought comments on this ICR pursuant to 5 CFR 1320.8(d). EPA received no comments. Any additional comments on this ICR should be submitted to EPA and OMB within 30 days of this notice.

EPA has established a public docket for this ICR under Docket ID No. EPA-HQ-OAR-2003-0052, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air & Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Risk Management Program Requirements and Petitions to Modify the List of Regulated Substances under section 112(r) of the Clean Air Act (CAA) (Renewal);

ICR Number: EPA ICR No. 1656.13, OMB Control No. 2050-0144.

ICR Status: This ICR is scheduled to expire on January 31, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The 1990 CAA Amendments added section 112(r) to provide for the prevention and mitigation of accidental releases. Section 112(r) mandates that EPA promulgate a list of “regulated substances” with threshold quantities and establish procedures for the addition and deletion of substances from the list of regulated substances. Processes at stationary sources that contain more than a threshold quantity of a regulated substance are subject to accidental release prevention regulations promulgated under CAA section 112(r)(7). These two rules are codified as 40 CFR part 68. Part 68 requires that sources with more than a threshold quantity of a regulated substance in a process develop and implement a risk management program and submit a risk management plan (RMP) to EPA. The compliance schedule for the part 68 requirements was established by rule on June 20, 1996. Burden to sources that are currently covered by part 68, for initial rule compliance, including rule familiarization and program implementation was accounted for in previous ICRs. Sources submitted their first RMPs on June 21, 1999. The next compliance deadline for most sources was June 21, 2004, five years after the first submission. Some sources revised and submitted their RMPs between the five-year deadlines. These sources were then assigned a new five-year compliance deadline based on the date of their revised plan submission. The next submission deadline of RMPs for most sources is June 21, 2009. However, as only some regulated entities have a compliance deadline of June 2009, the remaining sources have been assigned a deadline in 2010, 2011, 2012 or 2013 (the last two years are after the period covered by this ICR) based on the date of their most recent submission. The period covered by this ICR includes the regulatory reporting deadline, June 2009. In this ICR, EPA has accounted burden for new sources that may become subject to the regulations, currently covered sources with compliance deadlines in this ICR period (2009 to 2011), sources that are out of compliance since the last regulatory deadline but are expected to comply during this ICR period, and sources that have deadlines beyond this ICR period but are required to comply with certain prevention program documentation requirements.

Burden Statement: The annual public reporting and recordkeeping burden for this collection of information is estimated to average 20.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are chemical manufacturers, petroleum refineries, water treatment systems, non-chemical manufacturers, etc.

Estimated Number of Respondents: 13,718, including State implementing agencies.

Frequency of Response: Every five years, unless the facilities need to update their pervious submission earlier to comply with a rule requirement.

Estimated Total Annual Burden Hours: 93,982.

Estimated Total Annual Cost: $9,785,371.00. There are no capital or operating and maintenance costs associated with this ICR since the Agency expects all sources to submit their RMPs on-line using the new electronic reporting system, RMP* eSubmit.

Changes in the Estimates: There is a decrease of 4,617 hours for all sources and states from the previous ICR. There are two primary reasons for this decrease in burden. First, as explained in section 1 of the supporting statement for this ICR renewal, the burden varies from ICR to ICR due to different compliance deadlines based on the sources' RMP re-submission deadline and other regulatory deadlines. Therefore, the burden fluctuates each year depending on how many sources have to submit their RMP and comply with certain prevention program requirements. Second, the number of sources subject to the regulations is lower than in the previous ICR (16,634 in the previous ICR and 13,718 sources in this ICR period).

Dated: January 6, 2009.
John Moses,
Acting Director, Collection Strategies Division.

[FR Doc. E9-471 Filed 1-12-09; 8:45 am]

BILLING CODE 6560-50-P